DEPARTMENT OF HOUSING AND URBAN DEVELOPMENT

[Docket No. FR-5186-N-32]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, Room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Headquarters, Department of the Army, Office of the Assistant Chief of Staff for Installation Management, 2511 Jefferson Davis Hwy., Arlington, VA 22202; (703) 601-2545; ENERGY: Mr. Mark Price, Department of Energy, Office of Engineering & Construction Management, MA-50, 1000 Independence Ave, SW., Washington, DC 20585; (202) 586-5422; GSA: Mr. John Smith, Deputy Assistant Commissioner, General Services Administration, Office of Property Disposal, 18th & F Streets, NW., Washington, DC 20405; (202) 501-0084; NAVY: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: July 31, 2008.
Mark R. Johnston,
Deputy Assistant Secretary for Special Needs.

Title V, Federal Surplus Property Program Federal Register Report for 08/08/2008

Suitable/Available Properties

Building

Montana

Bldg. 1045

Kootenai

Hwy 508

Lincoln MT 59935

Landholding Agency: GSA

Property Number: 54200830007

Status: Surplus

GSA Number: 7-A-MT-0627

Comments: 1385 sq. ft., most recent use—residence, off-site use only

Bldg. 1063

Kootenai

Hwy 508

Lincoln MT 59935

Landholding Agency: GSA

Property Number: 54200830008

Status: Surplus

GSA Number: 7-A-MT-0627

Comments: 3145 sq. ft., most recent use—residence, off-site use only

Bldg. 1324

Kootenai

Hwy 508

Lincoln MT 59935

Landholding Agency: GSA

Property Number: 54200830009

Status: Surplus

GSA Number: 7-A-MT-0627

Comments: 2297 sq. ft., presence of asbestos, most recent use—bunkhouse, off-site use only

Suitable/Available Properties

Building

Montana

Bldg. 1325

Kootenai

Hwy 508

Lincoln MT 59935

Landholding Agency: GSA

Property Number: 54200830010

Status: Surplus

GSA Number: 7-A-MT-0627

Comments: 2297 sq ft., presence of asbestos, most recent use—bunkhouse, off-site use only

Bldg. 2326

Kootenai

Hwy 508

Lincoln MT 59935

Landholding Agency: GSA

Property Number: 54200830011

Status: Surplus

GSA Number: 7-A-MT-0627

Comments: 180 sq. ft., most recent use—storage, off-site use only

Bldg. 2641

Kootenai

Hwy 508

Lincoln MT 59935

Landholding Agency: GSA

Property Number: 54200830012

Status: Surplus

GSA Number: 7-A-MT-0627

Comments: 63 sq. ft., most recent use—storage, off-site use only

Suitable/Available Properties

Building

Montana

Bldg. 2000

Beaverhead MT 59762

Landholding Agency: GSA

Property Number: 54200830013

Status: Surplus

GSA Number: 7-A-MT-0627

Comments: 998 sq. ft., most recent use—office, off-site use only

Bldg. 3501

Jefferson MT

Landholding Agency: GSA

Property Number: 54200830014

Status: Surplus

GSA Number: 7-A-MT-0627

Comments: 50 ft., most recent use—tower, off-site use only

Bldg. 2002

Flathead

Big Fork MT 59911

Landholding Agency: GSA

Property Number: 54200830015

Status: Surplus

GSA Number: 7-A-MT-0627

Comments: 750 sq. ft., most recent use—office, off-site use only

Bldg. 2155

Flathead

Big Fork MT 59911

Landholding Agency: GSA

Property Number: 54200830016

Status: Surplus

GSA Number: 7-A-MT-0627

Comments: 440 sq. ft., most recent use—storage, off-site use only

Suitable/Available Properties

Building

Montana

Bldg. 1000

Lewis & Clark

Judith Basin MT 59479

Landholding Agency: GSA

Property Number: 54200830017

Status: Surplus

GSA Number: 7-A-MT-0627

Comments: 1432 sq. ft., most recent use—residence, off-site use only

Bldg. 2429

Lewis & Clark

Judith Basin MT 59479

Landholding Agency: GSA

Property Number: 54200830018

Status: Surplus

GSA Number: 7-A-MT-0627

Comments: 240 sq. ft., most recent use—shed, off-site use only

Unsuitable Properties

Building

California

Bldgs. 2, 10, 59

Naval Base

Point Loma CA

Landholding Agency: Navy

Property Number: 77200830012

Status: Unutilized

Reasons: Secured Area

New York

Bldg. 913T

Brookhaven Natl Laboratory

Upton NY 11973

Landholding Agency: Energy

Property Number: 41200830001

Status: Unutilized

Reasons: Extensive deterioration; Secured Area; Within 2000 ft. of flammable or explosive material

Ohio

National Guard Facility

1512 Oak Harbor Rd.

Fremont OH 43420

Landholding Agency: GSA

Property Number: 54200830006

Status: Excess

GSA Number: 1-D-OH-834

Reasons: Within 2000 ft. of flammable or explosive material

Unsuitable Properties

Building

Utah

Bldg. 00143

Tooele Army Depot

Tooele UT 84074

Landholding Agency: Army

Property Number: 21200830002

Status: Unutilized

Reasons: Extensive deterioration

Virginia

Bldgs. NH-18, NH-21

Naval Support Activity

Norfolk VA 23551

Landholding Agency: Navy

Property Number: 77200830014

Status: Excess

Reasons: Extensive deterioration; Secured Area

Bldg. 100

Naval Support Activity

Lafayette River Annex

Norfolk VA 23551

Landholding Agency: Navy

Property Number: 77200830015

Status: Excess

Reasons: Extensive deterioration; Secured Area

Unsuitable Properties

Land

North Carolina

0.23 acres

Marine Corps Base

Camp Lejeune NC

Landholding Agency: Navy

Property Number: 77200830013

Status: Unutilized

Reasons: Secured Area

[FR Doc. E8-18181 Filed 8-7-08; 8:45 am]

BILLING CODE 4210-67-P